DEPARTMENT OF THE INTERIOR

Fish and Wildlife Service

Extension of Comment Period: Draft Policy on Maintaining the Ecological Integrity of the National Wildlife Refuge System

AGENCY: Fish and Wildlife Service, Interior.

ACTION: Notice, extension of comment period.

SUMMARY: We are extending the comment period on the Federal Register notice dated October 17, 2000 (65 FR 61356) that invites the public to comment on our draft ecological integrity policy.

DATES: Submit comments on or before December 15, 2000.

ADDRESSES: Send comments concerning this draft ecological integrity policy via mail, fax or email to: Elizabeth Souheaver, Chief, Branch of Wildlife Resources, National Wildlife Refuge System, U.S. Fish and Wildlife Service, 4401 North Fairfax Drive, Room 670, Arlington, Virginia 22203; fax (703— 358-2248; email: ecointegrity _policy_ comments @fws.gov.

FOR FURTHER INFORMATION CONTACT: Elizabeth Souheaver, Chief, Branch of Wildlife Resources, (703) 358-1744.

SUPPLEMENTARY INFORMATION: In a Federal Register notice dated October 17, 2000, we published our draft ecological integrity policy. We propose to establish an internal policy to guide personnel of the National Wildlife Refuge System (System) in implementing the clause of the National Wildlife Refuge System Improvement Act of 1997 that calls for maintaining the “biological integrity, diversity, and environmental health” of the System. The holistic integration of these three qualities constitutes ecological integrity.

We received several requests to extend the public comment period beyond the December 1, 2000 due date. In order to ensure that the public has an adequate opportunity to review and comment on our draft policy, we are extending the comment period to December 15, 2000.

Dated: November 29, 2000.
Jamie Rappaport Clark,
Director, U.S. Fish and Wildlife Service.

[FR Doc. 00-30781 Filed 12-1-00; 8:45 am]

BILLING CODE 4310-55-P